DEPARTMENT OF DEFENSE

Office of the Secretary

Renewal of Department of Defense Federal Advisory Committees

AGENCY: DoD.

ACTION: Renewal of Federal Advisory Committee.

SUMMARY: The Department of Defense is publishing this notice to announce that it is renewing the charter for the U.S. Air Force Scientific Advisory Board (“the Board”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Board shall provide independent advice and recommendations to the Secretary of Defense and the Secretary of the Air Force, to include the Secretary of the Air Force's senior leadership, as determined by the Office of the Secretary of the Air Force and shall:

a. Conduct studies on topics deemed critical by the Secretary of the Air Force and the Chief of Staff of the Air Force.

b. Recommend application of technology to improve U.S. Air Force capabilities.

c. Provide an independent review of the quality and relevance of the U.S. Air Force science and technology program.

The Board is not established to advise on individual Department of Defense (DoD) or Department of the Air Force procurements, but instead shall be concerned with pressing and complex technology and business management issues facing the Department of the Air Force in the areas referenced above.

No matter shall be assigned to the Board for its consideration that would require any Board member to participate personally and substantially in the conduct of any specific procurement or place him or her in the position of acting as a contracting or procurement official. The DoD, through the Office of the Secretary of the Air Force, shall provide support as deemed necessary, for the Board's performance and functions, and shall ensure compliance with the requirement of the FACA, the Sunshine Act, governing Federal statutes and regulations, and established DoD policies and procedures.

The Board shall be comprised of no more than 20 members; all members are distinguished members of the science and technology communities; Federally Funded Research and Development Centers, National Laboratories, industry, and academia (universities and colleges). Board members appointed by the Secretary of Defense or Deputy Secretary of Defense, who are not full-time or permanent part-time federal employees, shall be appointed to serve as experts and consultants under the authority of 5 U.S.C. 3109 and shall serve as special government employee (SGE) members. Board members appointed by the Secretary of Defense or Deputy Secretary of Defense, who are full-time or permanent part-time Federal employees, shall serve as regular government employee (RGE) members. All Board members shall be appointed by the Secretary of Defense or Deputy Secretary of Defense and their appointments must be renewed on an annual basis.

The Secretary of Defense authorizes the Secretary of the Air Force to select the Board's Chair and Vice Chair from among Board members previously approved by the Secretary of Defense or Deputy Secretary of Defense. In addition, the Secretary of the Air Force may appoint, as deemed necessary, non-voting consultants to provide technical subject matter expertise to the Board.

These consultants, if not full-time or part-time Federal employees, shall be appointed under the authority of 5 U.S.C. 3109, shall serve as SGE members, and shall be appointed on an intermittent basis to work specific Board-related efforts; such individuals shall have no voting rights and shall not count toward the Board's total membership.

Board members and consultants, with the exception of travel and per diem for official travel, shall serve without compensation.

The Secretary of Defense or the Deputy Secretary of Defense may approve Board members for one to four-year terms of service, with annual renewals; however, no member, unless authorized by the Secretary of Defense or Deputy Secretary of Defense, may serve more than two consecutive terms of service. This same term of service limitation also applies to any DoD authorized subcommittees.

Each Board member is appointed to provide advice on behalf of the government on the basis of his or her best judgment without representing any particular point of view and in a manner that is free from conflict of interest.

The DoD, when necessary, and consistent with the Board's mission and DoD policies and procedures, may establish subcommittees, task forces, or working groups to support the Board. Establishment of subcommittees will be based upon a written determination, to include terms of reference, by the Secretary of Defense, the Deputy Secretary of Defense, or the Secretary of the Air Force, as the Board's sponsor.

Such subcommittees shall not work independently of the chartered Board, and shall report all their recommendations and advice solely to the Board for full and open deliberation and discussion. Subcommittees, task forces, or working groups have no authority to make decisions and recommendations, verbally or in writing, on behalf of the chartered Board. No subcommittee or any of its members can update or report, verbally or in writing, on behalf of the Board, directly to the DoD or any Federal officers or employees.

All subcommittee members shall be appointed in the same manner as the Board members; that is, the Secretary of Defense or the Deputy Secretary of Defense shall appoint subcommittee members even if the member in question is already a Board member. Subcommittee members, with the approval of the Secretary of Defense, may serve a term of service on the subcommittee of one-to-four years, with annual renewals; however, no member shall serve more than two consecutive terms of service on the subcommittee.

Subcommittee members, if not full-time or part-time government employees, shall be appointed to serve as experts and consultants under the authority of 5 U.S.C. 3109, and serve as SGE members. Subcommittee members who are full-time or permanent part-time Federal employees, shall be appointed to serve as RGE members. All subcommittee member appointments shall be renewed on an annual basis. With the exception of travel and per diem for official Board related travel, subcommittee members shall serve without compensation.

All subcommittees operate under the provisions of FACA, the Government in the Sunshine Act, governing Federal statutes and regulations, and established DoD policies and procedures.

The Designated Federal Officer (DFO), pursuant to DoD policy, shall be a full-time or permanent part-time DoD employee, and shall be appointed in accordance with governing DoD policies and procedures.

In addition, the Board's DFO is required to be in attendance at all meetings of the Board and its subcommittee for the entire duration of each and every meeting; however, in the absence of the DFO, a properly approved Alternate DFO, duly appointed to the Board according to established DoD policies and procedures, shall attend the entire duration of the meetings of the Board or subcommittees.

The DFO, or the Alternate DFO, shall call all meetings of the Board and its subcommittees; prepare and approve all meeting agendas; adjourn any meeting when the DFO, or the Alternate DFO, determines adjournment to be in the public interest or required by governing regulations or DoD policies and procedures; and chair meetings when directed to do so by the official to whom the Board reports.

Pursuant to 41 CFR 102-3.105(j) and 102-3.140, the public or interested organizations may submit written statements to U.S. Air Force Scientific Advisory Board membership about the Board's mission and functions. Written statements may be submitted at any time or in response to the stated agenda of planned meeting of U.S. Air Force Scientific Advisory Board.

All written statements shall be submitted to the DFO for the U.S. Air Force Scientific Advisory Board, and this individual will ensure that the written statements are provided to the membership for their consideration. Contact information for the U.S. Air Force Scientific Advisory Board DFO can be obtained from the GSA's FACA Database— http://www.facadatabase.gov/. The DFO, pursuant to 41 CFR 102-3.150, will announce planned meetings of the U.S. Air Force Scientific Advisory Board. The DFO, at that time, may provide additional guidance on the submission of written statements that are in response to the stated agenda for the planned meeting in question.

Dated: May 22, 2014.
Aaron Siegel,
Alternate OSD Federal Register Liaison Officer, Department of Defense.

[FR Doc. 2014-12243 Filed 5-27-14; 8:45 am]

BILLING CODE 5001-06-P